DEPARTMENT OF COMMERCE

Foreign-Trade Zones Board

[B-18-2017]

Foreign-Trade Zone (FTZ) 141—Monroe County, New York; Notification of Proposed Production Activity, Xerox Corporation, Subzone 141B (Xerographic Bulk Toner and Toner Cartridges), Webster, New York

The County of Monroe, New York, grantee of FTZ 141, submitted a notification of proposed production activity to the FTZ Board on behalf of Xerox Corporation (Xerox) located within Subzone 141B in Webster, New York. The notification conforming to the requirements of the regulations of the FTZ Board (15 CFR 400.22) was received on March 17, 2017.

Xerox already has authority to produce copiers/printers and certain components, xerographic bulk toner, toner cartridges and photoreceptors within Subzone 141B. The current request would add foreign-status materials/components to the scope of authority. Pursuant to 15 CFR 400.14(b), additional FTZ authority would be limited to the specific foreign-status materials/components described in the submitted notification (as described below) and subsequently authorized by the FTZ Board.

Production under FTZ procedures could exempt Xerox from customs duty payments on the foreign-status materials/components used in export production. On its domestic sales, Xerox would be able to choose the duty rates during customs entry procedures that apply to copiers/printers and certain components, xerographic bulk toner, toner cartridges and photoreceptors (duty rates range from duty-free to 6.5%) for the foreign-status materials/components noted below. Customs duties also could possibly be deferred or reduced on foreign-status production equipment.

The materials/components sourced from abroad include particulate zinc stearate and sodium dodecylbenzene sulfonate (duty rates, 4.6% and 6.5%).

Public comment is invited from interested parties. Submissions shall be addressed to the FTZ Board's Executive Secretary at the address below. The closing period for their receipt is May 10, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: March 27, 2017.
Andrew McGilvray,
Executive Secretary.

[FR Doc. 2017-06380 Filed 3-30-17; 8:45 am]

BILLING CODE 3510-DS-P